NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before May 3, 2004. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means: Mail: NARA (NWML), 8601 Adelphi Road, College Park, MD 20740-6001. E-mail: records.mgt@nara.gov. FAX: 301-837-3698.

Requesters must cite the control number, which appears in parentheses after the name of the agency which submitted the schedule, and must provide a mailing address. Those who desire appraisal reports should so indicate in their request.

FOR FURTHER INFORMATION CONTACT: Paul M. Wester, Jr., Director, Life Cycle Management Division (NWML), National Archives and Records Administration, 8601 Adelphi Road, College Park, MD 20740-6001. Telephone: 301-837-3120. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Health and Human Services, Agency for Healthcare Research and Quality (N1-510-02-1, 7 items, 4 temporary items). Outputs and copies of electronic records associated with the Executive Secretariat Controlled Correspondence System. Also included are electronic copies of records created using electronic mail and word processing. Proposed for permanent retention are recordkeeping copies of correspondence, master data files, and related documentation.

2. Department of Homeland Security, Information Analysis and Infrastructure Protection Directorate (N1-563-04-9, 1 item, 1 temporary item). Voluntary submissions of Critical Infrastructure Information that does not meet the requirements for protection contained in Section 214 of the Homeland Security Act of 2002. Records are received in all media and formats.

3. Department of Homeland Security, Federal Emergency Management Agency (N1-311-04-2, 3 items, 2 temporary items). Electronic copies of records created using electronic mail and word processing relating to agreements with foreign governments to exchange emergency management expertise. Recordkeeping copies of these files are proposed for permanent retention.

4. Department of Homeland Security, Transportation Security Administration (N1-560-04-1, 14 items, 14 temporary items). Subject files, acquisition plans, contract files, unsolicited proposal files, contract dispute files, reports, and policy files accumulated by the Office of Acquisitions. Also included are electronic copies of records created using electronic mail and word processing.

5. Department of Homeland Security, Transportation Security Administration (N1-560-03-4, 18 items, 17 temporary items). Records of the Office of the Ombudsman relating to complaints made by air travelers and agency employees. Records include administrative files, subject files, field office reports, complaints, investigative case files, training materials, and promotional materials. Also included are electronic copies of records created using electronic mail and word processing. Proposed for permanent retention are recordkeeping copies of records relating to substantive inquiries, investigations, and independent reviews.

6. Department of Justice, Justice Management Division (N1-60-04-3, 1 item, 1 temporary item). Contact information concerning former agency employees. Records may be maintained in paper or as electronic records.

7. Department of State, Bureau of Administration (N1-59-04-1, 12 items, 12 temporary items). Records relating to G-8 Summit planning, including such records as program files, reports, meeting minutes, and informational videos and web pages used to disseminate information about the summit. Also included are electronic copies of documents created using word processing and electronic mail.

8. Department of the Treasury, Bureau of Engraving and Printing (N1-318-04-1, 7 items, 4 temporary items). Records relating to strategic planning and capital investment initiatives. Also included are electronic copies of records created using electronic mail or word processing. Proposed for permanent retention are recordkeeping copies of records relating to the agency's five-year strategic plan, capital portfolio documents, and files relating to major capital investment projects.

9. Department of the Treasury, Bureau of Engraving and Printing (N1-318-04-5, 15 items, 6 temporary items). Status reports and other facilitative records relating to testing currency products, counterfeit deterrence, and currency design. Also included are electronic copies of records created using electronic mail and word processing. Proposed for permanent retention are recordkeeping copies of records relating to such matters as policy and research, counterfeit deterrence, and currency design.

10. Department of the Treasury, Bureau of Engraving and Printing (N1-318-04-14, 11 items, 11 temporary items). Records of the Inventory and Materials Division relating to managing the use of materials and forecasting future material requirements for the production of currency and other products. Records include material requirement plans, requisitions, inventory records, and material testing files. Also included are electronic copies of records created using electronic mail and word processing.

11. Department of the Treasury, Bureau of Engraving and Printing (N1-318-04-15, 17 items, 16 temporary items). Records of the Engineering and Maintenance Division relating to equipment and facility operations and maintenance, including electronic systems. Also included are electronic copies of records created using electronic mail and word processing. Proposed for permanent retention are recordkeeping copies of drawings, plans, and related files pertaining to buildings owned by the agency.

12. Department of the Treasury, Bureau of Engraving and Printing (N1-318-04-16, 22 items, 21 temporary items). Records of the Currency Standards Division relating to the mutilation of currency, including electronic tracking systems. Also included are electronic copies of records created using electronic mail and word processing. Proposed for permanent retention are recordkeeping copies of the Currency Verification and Destruction Manual.

13. Federal Mediation and Conciliation Service, Office of Labor Management Grants Administration (N1-280-04-01, 17 items, 17 temporary items). Records relating to agency grant programs, including case files, grant applications, contractual agreements, and grant contract dispute reviews. Also included are electronic copies of documents created using electronic mail and word processing.

14. Tennessee Valley Authority, Agency-wide, (N1-142-03-4, 80 items, 80 temporary items). Paper and electronic records relating to environmental matters, including air quality, asbestos abatement, drinking water safety, the management of hazardous wastes, and oil spills. Also included are electronic copies of documents created using electronic mail and word processing.

Dated: March 10, 2004.
Michael J. Kurtz,
Assistant Archivist for Record Services—Washington, DC.

[FR Doc. 04-6083 Filed 3-17-04; 8:45 am]

BILLING CODE 7515-01-P